DEPARTMENT OF THE TREASURY

Submission for OMB Review; Comment Request

November 19, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before December 29, 2010 to be assured of consideration.

Internal Revenue Service (IRS)

OMB Number: 1545-1614.

Type of Review: Extension without change to a currently approved collection.

Title: REG-106177-97 (NPRM) Qualified State Tuition Programs.

Abstract: Respondents are States and eligible educational institutions that establish and maintain qualified State tuition programs. Respondents include distributes who receive benefits under the programs. Information verifies that programs are qualified and that distribution are used for qualified educational expenses.

Respondents: State, Local, and Tribal Governments.

Estimated Total Burden Hours: 4,258,260 hours.

OMB Number: 1545-21.75.

Type of Review: Extension without change to a currently approved collection.

Title: Form 8942—Application for Certification of Qualified Investments Eligible for Credits; Notice 2010-45—Qualifying Therapeutic Discovery Project Credit.

Abstract: On March 23, 2010, the President signed the Patient Protection and Affordable Care Act (Act) (Pub. L. 111-148). Section 9023(a) of the Act adds section 48D to the Internal Revenue Code. Section 48D provides a 50-percent nonrefundable investment tax credit, and corresponding grant in lieu of a tax credit, for qualified investments in qualifying therapeutic discovery projects. The credit and grant are designed to encourage investments in new therapies relating to diseases. Form 8942 will be used to apply for certification and credit.

Respondents: Businesses or other for-profits.

Estimated Total Burden Hours: 14,545 hours.

OMB Number: 1545-0029.

Type of Review: Extension without change of a currently approved collection.

Title: Employer's Quarterly Federal Tax Return.

Form: 941 series and schedules.

Abstract: Form 941 is used by employers to report payments made to employees subject to income and social security/Medicare taxes and the amounts of these taxes. Form 941-PR is used by employers in Puerto Rico to report social security and Medicare taxes only. Form 941-SS is used by employers in the U.S. possessions to report social security and Medicare taxes only. Schedule B is used by employers to record their employment tax liability.

Respondents: Private sector: Businesses or other for-profits.

Estimated Total Burden Hours: 388,256,964 hours.

OMB Number: 1545-2173.

Type of Review: Extension without change to a currently approved collection.

Title: Hiring Incentives to Restore Employment (HIRE) Act Employee Affidavit.

Abstract: This form was created in response to the Hiring Incentives to Restore Employment (HIRE) Act, which was signed on March 18, 2010. The form was developed as a template for the convenience of employers who must collect affidavits from qualifying employees. The form is not filed, rather an employer must retain the affidavit in order to justify claiming certain HIRE Act benefits. A model form is needed as soon as possible so that employers can begin confidently claiming payroll exemptions. The useful life of the form is only from March 18, 2010 to December 31, 2010.

Respondents: Businesses or other for-profits.

Estimated Total Burden Hours: 227,000 hours.

OMB Number: 1545-2174.

Type of Review: Extension without change to a currently approved collection.

Title: Form 14134, Application for Certificate of Subordination of Federal Tax Lien, and Form 14135, Application for Certificate of Discharge of Property from Federal Tax Lien.

Form: 14134, 14135.

Abstract: The collection of information is required by 26 CFR 301.6325-1(b)(5) for consideration of the United States discharging property from the Federal tax lien and is required by 26 CFR 301.6325-1(d)(4) for consideration that the United States subordinate its interest in property. These forms will provide guidance to ensure proper documentation is submitted to the Agency.

Respondents: Businesses or other for-profits, farms, not-for-profit institutions.

Estimated Total Burden Hours: 22,665 hours.

OMB Number: 1545-2090.

Type of Review: Extension without change to a currently approved collection.

Title: REG-143797-06 (Final), Health Savings Plan Notice.

Abstract: The information is needed in cases where an employee establishes an HSA after the end of the calendar year but before the last day of February and will be used by employees for purposes of making up HSA contributions to those employees. the respondents are employees of employers who contribute to employees' HSAs.

Respondents: Businesses or other for-profits and not-for-profit institutions.

Estimated Total Burden Hours: 1,250,000 hours.

OMB Number: 1545-1892.

Type of Review: Extension without change to a currently approved collection.

Title: REG-153841-02 (TD 9208) (Final), Election Out of GST Deemed Allocations.

Abstract: The information collected will be used by the IRS to identify the trusts to which the election or termination of election will apply. The collection of information in this proposed regulation is in sections 26.2632-1(b)(2)(ii), 26.2632-1(b)(2)(iii), and 26.2632-1(b)(2). This information is required by the IRS for taxpayers who elect to have the automatic allocation rules not apply to the current transfer and/or to future transfers to the trust or to terminate such election. This information is also required by the IRS for taxpayers who elect to treat trusts described in section 2632(c)(3)(B)(i) through (vi) as GST trusts or to terminate such election.

Respondents: Individuals or households.

Estimated Total Burden Hours: 12,500 hours.

OMB Number: 1545-1430.

Type of Review: Extension without change to a currently approved collection.

Title: Form 945 and 945V: Annual Return of Withheld Federal Income Tax/Voucher; Form 945-A: Annual Record of Federal Tax Liability; Form 945-X Annual Return of Withheld Federal Income Tax, Claim, Refund.

Form: 945, 945V, 945-X.

Abstract: Form 945 is used to report income tax withholding on nonpayroll payments including backup withholding and withholding on pensions, annuities, IRA's military retirement and gambling winnings. Form 945-V, Payment Voucher, is used if you are making a payment with Form 945, Annual Return of Withheld Federal Income Tax. Form 945-A is used to report nonpayroll tax liabilities. Form 945-X is used to correct errors made on Form 945, Annual Return of Withheld Federal Income Tax, for one year only.

Respondents: Businesses or other for-profits.

Estimated Total Burden Hours: 3,596,690 hours.

OMB Number: 1545-1081.

Type of Review: Extension without change to a currently approved collection.

Title: Application for Extension of Time to File Information Returns.

Form: 8809.

Abstract: Form 8809 is used to request an extension of time to file Forms W-2, W-2G, 1042-S, 1097, 1098, 1099, 3921, 3922, 5498, and 8027. The IRS reviews the information contained on the form to determine whether an extension should be granted.

Respondents: Businesses or other for-profits, farms, not-for-profit institutions.

Estimated Total Burden Hours: 192,000 hours.

OMB Number: 1545-0985.

Type of Review: Extension without change to a currently approved collection.

Title: PS-128-86, PS-127-86, and PS-73-88 (Final)(TD 8644) Generation- Skipping Transfer Tax.

Abstract: This regulation provides rules relating to the effective date, return requirements, definitions, and certain special rules covering the generation-skipping transfer tax. The information required by the regulation will require individuals and/or fiduciaries to report information on Form 706NA, 706, 706GS (D), 706GS(D-1), 706GS(T), 709 and 843 in connection with the generation skipping transfer tax. The information will facilitate the assessment of the tax and taxpayer examinations.

Respondents: Individuals or households.

Estimated Total Burden Hours: 3,750 hours.

Bureau Clearance Officer: Allan M. Hopkins, Internal Revenue Service, 1111 Constitution Avenue, NW., Room 6129, Washington, DC 20224; (202) 622-3634.

OMB Reviewer: Shagufta Ahmed, Office of Management and Budget, New Executive Office Building, Room 10235, Washington, DC 20503; (202) 395-7873.

Celina Elphage,
Treasury PRA Clearance Officer.

[FR Doc. 2010-29829 Filed 11-26-10; 8:45 am]

BILLING CODE 4830-01-P